ENVIRONMENTAL PROTECTION AGENCY

40 CFR Part 52

[EPA-R01-OAR-2019-0220; FRL-10015-04-Region 1]

Air Plan Approval; Massachusetts; Reasonably Available Control Technology for the 2008 and 2015 Ozone Standards

AGENCY: Environmental Protection Agency (EPA).

ACTION: Final rule.

SUMMARY: The Environmental Protection Agency (EPA) is approving a State Implementation Plan (SIP) revision submitted by the Commonwealth of Massachusetts. The SIP revision consists of a demonstration that Massachusetts meets the requirements of reasonably available control technology (RACT) for the two precursors for ground-level ozone, oxides of nitrogen (NOX) and volatile organic compounds (VOCs), set forth by the Clean Air Act (CAA or Act) with respect to the 2008 and 2015 ozone National Ambient Air Quality Standards (NAAQSs or standards). Additionally, we are approving specific regulations that implement the RACT requirements by limiting air emissions of NOX and VOC pollutants from sources within the Commonwealth. This action is being taken in accordance with the Clean Air Act.

DATES: This rule is effective on November 16, 2020.

ADDRESSES: EPA has established a docket for this action under Docket Identification No. EPA-R01-OAR-2019-0220. All documents in the docket are listed on the https://www.regulations.gov website. Although listed in the index, some information is not publicly available, i.e., CBI or other information whose disclosure is restricted by statute. Certain other material, such as copyrighted material, is not placed on the internet and will be publicly available only in hard copy form. Publicly available docket materials are available at https://www.regulations.gov or at the U.S. Environmental Protection Agency, EPA Region 1 Regional Office, Air and Radiation Division, 5 Post Office Square—Suite 100, Boston, MA. EPA requests that if at all possible, you contact the contact listed in the FOR FURTHER INFORMATION CONTACT section to schedule your inspection. The Regional Office's official hours of business are Monday through Friday, 8:30 a.m. to 4:30 p.m., excluding legal holidays and facility closures due to COVID-19.

FOR FURTHER INFORMATION CONTACT: David L. Mackintosh, Air Quality Branch, U.S. Environmental Protection Agency, EPA Region 1, 5 Post Office Square—Suite 100, (Mail code 05-2), Boston, MA 02109-3912, tel. 617-918-1584, email Mackintosh.David@epa.gov.

SUPPLEMENTARY INFORMATION: Throughout this document whenever “we,” “us,” or “our” is used, we mean EPA.

Table of Contents

I. Background and Purpose

II. Public Comment

III. Final Action

IV. Incorporation by Reference

V. Statutory and Executive Order Reviews

I. Background and Purpose

On August 3, 2020 (85 FR 46581), EPA issued a notice of proposed rulemaking (NPRM) for the Commonwealth of Massachusetts. In the NPRM, EPA proposed approval of a SIP revision submitted by Massachusetts on October 18, 2018 and revised by Massachusetts on May 28, 2020. The SIP revision contains a certification that Massachusetts has met all RACT requirements for the 2008 and 2015 8-hour ozone NAAQSs, negative declarations for ten Control Technique Guidelines (CTGs), and the following changes to Title 310 Code of Massachusetts Regulations (CMR): Revised section 7.00, Definitions; revised 7.00 Appendix B: Emission Banking, Trading, and Averaging, subsection (4)(b) Applicability revised section 7.08(2), Municipal Waste Combustors; revised section 7.18, VOC RACT subsections (3) Metal Furniture Surface Coating, (5) Large Appliance Surface Coating, (11) Surface Coating of Miscellaneous Metal Parts and Products, (12) Packaging Rotogravure and Packaging Flexographic Printing, (14) Paper, Film and Foil Surface Coating, (21) Surface Coating of Plastic Parts, (24) Flat Wood Paneling Surface Coating, (25) Offset Lithographic Printing Letterpress Printing; withdrawal of section 7.18(7), Automobile Surface Coating; adding 7.18, VOC RACT subsections (31) Industrial Cleaning Solvents and (32) Fiberglass Boat Manufacturing; revised section 7.19, NOX RACT subsections (2) General Provisions, (4) Large Boilers, (5) Medium-size Boilers, (6) Small Boilers, (7) Stationary Combustion Turbines, (8) Stationary Reciprocating Internal Combustion Engines, and (9) Municipal Waste Combustor Units, and adding 310 CMR 7.26, Industry Performance Standards subsections (20) through (25) and (27) through (29) Environmental Results Program for Lithographic, Gravure, Letterpress, and Flexographic Printing.

The NPRM provides the rationale for EPA's proposed approval, which will not be restated here.

II. Public Comment

EPA received one comment in response to the NPRM. The comment is outside the scope of a RACT SIP action, does not explain (or provide a legal or technical basis for) how the proposed action should differ in any way, and makes no specific mention of the proposed action; the comment is not germane.

III. Final Action

EPA is approving the Massachusetts SIP revision as meeting the Commonwealth's RACT obligations for the 2008 and 2015 8-hour ozone NAAQSs as set forth in sections 182(b), 182(f) and 184(b)(2) of the CAA, and is adding to the SIP the Commonwealth's submission entitled “Reasonably Available Control Technology State Implementation Plan Revision 2008 and 2015 Ozone National Ambient Air Quality Standards” and “RACT SIP Revision” dated October 18, 2018 and May 28, 2020 respectively. EPA is approving negative declarations for nine CTG categories: (1) Refinery Vacuum Producing Systems, Wastewater Separators, and Process Unit Turnarounds; (2) Leaks from Petroleum Refinery Equipment; (3) Manufacture of Synthesized Pharmaceutical Products; (4) Manufacture of Pneumatic Rubber Tires; (5) Large Petroleum Dry Cleaners; (6) Manufacture of High-Density Polyethylene, Polypropylene, and Polystyrene Resins; (7) Equipment Leaks from Natural Gas/Gasoline Processing Plants; (8) Air Oxidation Processes; and (9) Surface Coating of Automobiles and Light-Duty Trucks. A tenth negative declaration, which applies to the Oil and Natural Gas Industry CTG, was approved by EPA on August 21, 2020 (85 FR 51666). EPA is also approving Title 310 CMR changes to the Massachusetts SIP, as follows: Revised section 7.00, Definitions; revised 7.00 Appendix B: Emission Banking, Trading, and Averaging, subsection (4)(b) Applicability; revised section 7.08(2), Municipal Waste Combustors; revised section 7.18, VOC RACT subsections (2) Compliance with Emission Limitations, (3) Metal Furniture Surface Coating, (5) Large Appliance Surface Coating, (11) Surface Coating of Miscellaneous Metal Parts and Products, (12) Packaging Rotogravure and Packaging Flexographic Printing, (14) Paper, Film and Foil Surface Coating, (20) Emission Control Plans for Implementation of RACT, (21) Surface Coating of Plastic Parts, (24) Flat Wood Paneling Surface Coating, (25) Offset Lithographic Printing Letterpress Printing, and (30) Adhesives and Sealants; withdrawal of 7.18, section (7) Automobile Surface Coating; addition of 7.18 VOC RACT, subsections (1)(g) and (h), (31) Industrial Cleaning Solvents, and (32) Fiberglass Boat Manufacturing; revised section 7.19, NOX RACT subsections (1) Applicability, (2) General Provisions, (3) Emission Control Plans for Implementation of RACT, (4) Large Boilers, (5) Medium-size Boilers, (6) Small Boilers, (7) Stationary Combustion Turbines, (8) Stationary Reciprocating Internal Combustion Engines, and (9) Municipal Waste Combustor Units; and addition of 310 CMR 7.26, Industry Performance Standards, subsections which incorporate an Environmental Results Program for Lithographic, Gravure, Letterpress, and Flexographic Printing: subsections (20) through (25), (27), (28) except (28)(a), and (29).

IV. Incorporation by Reference

In this rule, the EPA is finalizing regulatory text that includes incorporation by reference. In accordance with requirements of 1 CFR 51.5, the EPA is finalizing the incorporation by reference of the Massachusetts regulations described in the amendments to 40 CFR part 52 set forth below. The EPA has made, and will continue to make, these documents generally available through https://www.regulations.gov and at the EPA Region 1 Office (please contact the person identified in the FOR FURTHER INFORMATION CONTACT section of this preamble for more information). Therefore, these materials have been approved by EPA for inclusion in the state implementation plan, have been incorporated by reference by EPA into that plan, are fully federally enforceable under sections 110 and 113 of the CAA as of the effective date of the final rulemaking of EPA's approval, and will be incorporated by reference in the next update to the SIP compilation.¹

¹ 62 FR 27968 (May 22, 1997).

V. Statutory and Executive Order Reviews

Under the Clean Air Act, the Administrator is required to approve a SIP submission that complies with the provisions of the Act and applicable Federal regulations. 42 U.S.C. 7410(k); 40 CFR 52.02(a). Thus, in reviewing SIP submissions, EPA's role is to approve state choices, provided that they meet the criteria of the Clean Air Act. Accordingly, this action merely approves state law as meeting Federal requirements and does not impose additional requirements beyond those imposed by state law. For that reason, this action:

• Is not a significant regulatory action subject to review by the Office of Management and Budget under Executive Orders 12866 (58 FR 51735, October 4, 1993) and 13563 (76 FR 3821, January 21, 2011);

• Ιs not an Executive Order 13771 regulatory action because this action is not significant under Executive Order 12866;

• Does not impose an information collection burden under the provisions of the Paperwork Reduction Act (44 U.S.C. 3501 et seq.);

• Is certified as not having a significant economic impact on a substantial number of small entities under the Regulatory Flexibility Act (5 U.S.C. 601 et seq.);

• Does not contain any unfunded mandate or significantly or uniquely affect small governments, as described in the Unfunded Mandates Reform Act of 1995 (Pub. L. 104-4);

• Does not have federalism implications as specified in Executive Order 13132 (64 FR 43255, August 10, 1999);

• Is not an economically significant regulatory action based on health or safety risks subject to Executive Order 13045 (62 FR 19885, April 23, 1997);

• Is not a significant regulatory action subject to Executive Order 13211 (66 FR 28355, May 22, 2001);

• Is not subject to requirements of Section 12(d) of the National Technology Transfer and Advancement Act of 1995 (15 U.S.C. 272 note) because application of those requirements would be inconsistent with the Clean Air Act; and

• Does not provide EPA with the discretionary authority to address, as appropriate, disproportionate human health or environmental effects, using practicable and legally permissible methods, under Executive Order 12898 (59 FR 7629, February 16, 1994).

In addition, the SIP is not approved to apply on any Indian reservation land or in any other area where EPA or an Indian tribe has demonstrated that a tribe has jurisdiction. In those areas of Indian country, the rule does not have tribal implications and will not impose substantial direct costs on tribal governments or preempt tribal law as specified by Executive Order 13175 (65 FR 67249, November 9, 2000).

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. EPA will submit a report containing this action and other required information to the U.S. Senate, the U.S. House of Representatives, and the Comptroller General of the United States prior to publication of the rule in the Federal Register. A major rule cannot take effect until 60 days after it is published in the Federal Register. This action is not a “major rule” as defined by 5 U.S.C. 804(2).

Under section 307(b)(1) of the Clean Air Act, petitions for judicial review of this action must be filed in the United States Court of Appeals for the appropriate circuit by December 14, 2020. Filing a petition for reconsideration by the Administrator of this final rule does not affect the finality of this action for the purposes of judicial review nor does it extend the time within which a petition for judicial review may be filed, and shall not postpone the effectiveness of such rule or action. This action may not be challenged later in proceedings to enforce its requirements. (See section 307(b)(2).)

List of Subjects in 40 CFR Part 52

Environmental protection, Air pollution control, Incorporation by reference, Intergovernmental relations, Nitrogen dioxide, Ozone, Reporting and recordkeeping requirements, Volatile organic compounds.

Dated: September 17, 2020.
Dennis Deziel,
Regional Administrator, EPA Region 1.

For the reasons stated in the preamble, the EPA amends part 52 of chapter I, title 40 of the Code of Federal Regulations as follows:

PART 52—APPROVAL AND PROMULGATION OF IMPLEMENTATION PLANS

1. The authority citation for part 52 continues to read as follows:

Authority: 42 U.S.C. 7401 et seq.

Subpart W—Massachusetts

2. In § 52.1120:

a. Amend the table in paragraph (c) by revising the entries for “310 CMR 7.00 Definitions”, “310 CMR 7.00 Appendix B Emission Banking, Trading, and Averaging”, “310 CMR 7.08 Incinerators. Municipal Waste Combustors 310 CMR 7.08(2)”, “310 CMR 7.18 Volatile and Halogenated Organic Compounds”, “310 CMR 7.19 Reasonably Available Control Technology (RACT) for Sources of Oxides of Nitrogen (NOX)”, and “310 CMR 7.26 “Industry Performance Standards”.

b. Amend the table in paragraph (e) by adding a provision for “Reasonably Available Control Technology State Implementation Plan Revision 2008 and 2015 Ozone National Ambient Air Quality Standards and RACT SIP Revision” at the end of the table.

The additions and revisions read as follows:

§ 52.1120 Identification of plan.

* * * * *

(c) * * *

EPA-Approved Massachusetts Regulations
State citation | Title/subject | State effective date | EPA approval date | Explanations
* * * * * * *
310 CMR 7.00 | Definitions | 3/9/2018 and 3/20/2020 | 10/15/2020 [Insert Federal Register citation] | Approved 90 new definitions, updated 6 definitions, and deleted definitions for: Automotive Surface Coating, Manufacturing Plant, and Propanol Substitute.
* * * * * * *
310 CMR 7.00 Appendix B | Emission Banking, Trading, and Averaging | 3/9/2018 | 10/15/2020 [Insert Federal Register citation] | Revises (4)(b) Applicability.
* * * * * * *
310 CMR 7.08 | Incinerators. Municipal Waste Combustors 310 CMR 7.08(2) | 3/20/2020 | 10/15/2020 [Insert Federal Register citation] |
* * * * * * *
310 CMR 7.18 | Volatile and Halogenated Organic Compounds | 3/20/2020 | 10/15/2020 [Insert Federal Register citation] | Withdraws subsection (7) Automobile Surface Coating; adds new subsections (1)(g) and (h), (31) Industrial Cleaning Solvents, (32) Fiberglass Boat Manufacturing; revises subsections (2) Compliance with Emission Limitations, (3) Metal Furniture Surface Coating, (5) Large Appliance Surface Coating, (11) Surface Coating of Miscellaneous Metal Parts and Products, (12) Packaging Rotogravure and Packaging Flexographic Printing, (14) Paper, Film and Foil Surface Coating, (20) Emission Control Plans for Implementation of Reasonably Available Control Technology, (21) Surface Coating of Plastic Parts, (24) Flat Wood Paneling Surface Coating, (25) Offset Lithographic Printing; and adds subsections, (30) Adhesives and Sealants.
310 CMR 7.19 | Reasonably Available Control Technology (RACT) for Sources of Oxides of Nitrogen (NOX) | 3/20/2020 | 10/15/2020 [Insert Federal Register citation] | Revises subsection (1) Applicability, (2) General Provisions, (3) Emission Control Plans for Implementation of RACT, (4) Large Boilers, (5) Medium-size Boilers, (6) Small Boilers, (7) Stationary Combustion Turbines, (8) Stationary Reciprocating Internal Combustion Engines, and (9) Municipal Waste Combustor Units.
* * * * * * *
310 CMR 7.26 | Industry Performance Standards | 3/9/2018 | 10/15/2020 [Insert Federal Register citation] | Adds Environmental Results Program for Lithographic, Gravure, Letterpress, and Flexographic Printing subsections 20 through 25 and 27 through 29, except 28(a).
* * * * * * *

* * * * *

(e) * * *

Massachusetts Non Regulatory
Name of non regulatory SIP provision | Applicable geographic or nonattainment area | State submittal date/effective date | EPA approved date | Explanation
* * * * * * *
Reasonably Available Control Technology State Implementation Plan Revision 2008 and 2015 Ozone National Ambient Air Quality Standards and RACT SIP Revision | Statewide | Submitted 10/18/2018 and 5/28/2020 | 10/15/2020 [Insert Federal Register citation] | Includes negative declarations for 10 CTGs.

[FR Doc. 2020-21146 Filed 10-14-20; 8:45 am]

BILLING CODE 6560-50-P